CONSUMER PRODUCT SAFETY COMMISSION

16 CFR Part 1211

[Docket No. CPSC-2015-0025]

Safety Standard for Automatic Residential Garage Door Operators

AGENCY: U.S. Consumer Product Safety Commission.

ACTION: Direct final rule.

SUMMARY: In June 2023, the Consumer Product Safety Commission (Commission or CPSC) under the Consumer Product Safety Improvement Act of 1990 (Improvement Act) approved changes to the entrapment protection provisions in UL standard UL 325 for inclusion in the Commission's safety regulation for automatic residential garage door operators. This direct final rule is amending the Commission's automatic residential garage door operators regulation to reflect these changes.

DATES: The rule is effective on May 13, 2024, unless we receive significant adverse comments by April 15, 2024. If we receive timely significant adverse comments, we will publish a notification in the Federal Register withdrawing this direct final rule before its effective date.

ADDRESSES: You can submit comments, identified by Docket No. CPSC-2015-0025, by any of the following methods:

Electronic Submissions: Submit electronic comments to the Federal eRulemaking Portal at: www.regulations.gov. Follow the instructions for submitting comments. Do not submit through this website: confidential business information, trade secret information, or other sensitive or protected information that you do not want to be available to the public. CPSC typically does not accept comments submitted by email, except as described below.

Mail/Hand Delivery/Courier/Confidential Written Submissions: CPSC encourages you to submit electronic comments by using the Federal eRulemaking Portal. You may, however, submit comments by mail, hand delivery, or courier to: Office of the Secretary, Consumer Product Safety Commission, 4330 East West Highway, Bethesda, MD 20814; telephone: (301) 504-7479. If you wish to submit confidential business information, trade secret information, or other sensitive or protected information that you do not want available to the public, you may submit such comments by mail, hand delivery, courier, or you may email them to: cpsc-os@cpsc.gov.

Instructions: All submissions must include the agency name and docket number. CPSC may post all comments without change, including any personal identifiers, contact information, or other personal information provided, to: www.regulations.gov. Do not submit to this website: confidential business information, trade secret information, or other sensitive or protected information that you do not want to be available to the public. If you wish to submit such information, please submit it according to the instructions for mail/hand delivery/courier/confidential written submissions.

Docket: For access to the docket to read background documents or comments received, go to: www.regulations.gov, and insert the docket number, CPSC-2015-0025, into the “Search” box, and follow the prompts.

FOR FURTHER INFORMATION CONTACT: Will Cusey, Small Business Ombudsman, U.S. Consumer Product Safety Commission, 4330 East West Highway, Bethesda, MD 20814; telephone (301) 504-7945 or (888) 531-9070; email: sbo@cpsc.gov.

SUPPLEMENTARY INFORMATION:

I. Background

Section 203(a) and (b) of the Improvement Act, Public Law 101-608, states that the entrapment protection requirements of UL 325, “Standard for Safety for Door, Drapery, Gate, Louver, and Window Operators and Systems”, are considered a consumer product safety rule under the Consumer Product Safety Act (CPSA). 15 U.S.C. 2056 Note. On June 19, 1991, as mandated by the Improvement Act, the Commission issued a final rule codifying the provisions of the entrapment protection requirements of UL 325 at 16 CFR part 1211. 56 FR 28050. On December 21, 1992, as directed in section 203(b) of the Improvement Act, the Commission published a final rule to include the additional entrapment protection provisions adopted by UL in UL 325 in the CPSC mandatory standard for automatic residential garage door operators. 57 FR 60449.

Section 203(c) of the Improvement Act requires UL to notify CPSC of any revisions to UL 325, which is the basis for the Commission's garage door operator (GDO) regulation. When UL notifies the Commission of a revision, that revision “shall be incorporated in the consumer product safety rule . . . unless, within 30 days of such notice, the Commission notifies [UL] that the Commission has determined that such revision does not carry out the purposes of subsection (b)” of section 203 of the Improvement Act, which initially mandated the UL 325 entrapment protection requirements.” As provided in the Improvement Act, the Commission has revised the GDO standard several times in the past after UL notified the Commission of changes to the entrapment protection requirements of UL 325. The Commission last updated the GDO rule in 2018, to reflect changes made to the entrapment protection provisions of UL 325 up to that time. 83 FR 32566. (July 13, 2018).

On May 19, 2023, UL notified the Commission of revisions to UL 325 regarding the entrapment protection provisions related to residential garage door operators. On June 13, 2023, the Commission voted to approve the relevant revisions to UL 325 regarding the entrapment protection requirements for automatic residential GDOs for inclusion in the Commission's mandatory regulation, in accordance with the procedure in the Improvement Act.¹ In order to implement the Commission's June 2023 vote to include the accepted revisions to UL 325 for residential GDOs in the Commission mandatory standard, this direct final rule revises the provisions of the GDO rule at 16 CFR part 1211 to reflect the Commission's earlier acceptance of the revisions for the entrapment protection requirements for automatic residential GDOs in UL 325, Seventh Edition.²

¹ The Record of Commission Action is available here: www.cpsc.gov/s3fs-public/RCA-Residential-Garage-Door-Operators-Revision-of-UL-Standards-and-Engagement-Standard-for-Safety-for-Door-Drapery-Gate-Louver-and-Window-Operators-and-Systems-ANSI-CAN-UL-325-2023.pdf?VersionId=fy5Uemm.sZS9q4NWx1Rf_zixO3jOlAdh.

² The Commission voted 4-0 to publish this notification.

II. Changes to UL 325

Since the last update of the mandatory GDO regulation in 2018, there have been three published revisions to UL 325: UL 325 revision, Seventh Edition, published July 19, 2019; UL 325 revision, Seventh Edition, published February 28, 2020; and UL 325 revision, Seventh Edition, published February 21, 2023. The revisions in the last three updates to UL 325 to the entrapment protection requirements for automatic residential GDOs are all aggregated in the most current published revision of February 21, 2023. The revisions to UL 325 regarding the entrapment protection requirements for automatic residential GDOs include two revisions adding requirements to existing testing requirements, along with a few clarifying changes to the existing language of the standard. For a more detailed discussion and assessment of the revisions to UL 325 see CPSC's June 2023 staff briefing package.³

³ June 2023 Staff Briefing Package available at https://www.cpsc.gov/s3fs-public/Residential-Garage-Door-Operators-Revision-of-UL-Standards-Engagement-Standard-for-Safety-for-Door-Drapery-Gate-Louver-and-Window-Operators-and-Systems-ANSI-CAN-UL-325-2023.pdf?VersionId=tHa02NizECC_RpGwvgNblyYwugAhc1S7.

On May 19, 2023, UL notified the Commission that it had revised the entrapment protection requirements of UL 325, Seventh Edition. Staff sent a briefing package to the Commission providing its assessment and recommendations regarding the revisions to the entrapment protection requirements for automatic residential GDOs reflected in the 2019, 2020, and 2023 revisions to UL 325, Seventh Edition. UL did not notify the Commission regarding the 2019 and 2020 revisions to UL 325. On June 13, 2023, the Commission accepted the proposed revisions to UL 325 for inclusion in 16 CFR part 1211, the mandatory standard for residential GDOs.

III. Description of the Direct Final Rule

The direct final rule amends 16 CFR part 1211 to include the revisions regarding the entrapment protection requirements for automatic residential GDOs in UL 325, Seventh Edition. All of the revisions in the direct final rule concerning the GDO regulation are in subpart A of part 1211. The direct final rule does not change any of the certification (subpart B), recordkeeping (subpart C), or incorporation by reference (subpart D) provisions of the GDO regulation.

The revisions to 16 CFR part 1211 are described below and explained in more detail in the June 2023 Staff Briefing Package.

• Changes to § 1211.11. Section 1211.11(b) removes an erroneous reference to a “gate opening” because gates are not within the scope of the rule. Section 1211.11(d)(2) changes the reference location for measuring the vertical location of the axis point from “above the floor” to “above the level surface below the door” and removes the sentence that states, “The photoelectric sensor is to be mounted at the highest position as recommended by the manufacturer.”

• Changes to § 1211.12. Section 1211.12(a)(4)(i) clarifies the requirements for the normal operation tests for edge sensors by changing “with gate operators” to “when exposed to outdoor temperature” for edge sensors intended to be exposed to outside temperatures. In § 1211.12(a)(4)(i)(B) an erroneous reference to “swinging gate” is being deleted because swinging gates are not within the scope of the rule. Section 1211.12(b) is revised as follows: (1) by changing the phrase, “but at room temperature only” to “except with a 15lbf (66.7 N) or greater, and at room temperature only”; (2) adding a new sentence after the third existing sentence “All intended uses are to be tested”; and (3) adding a new sentence at the end of the paragraph, “After the 30,000 cycle test the normal operation test shall be repeated.”

In accordance with the Commission's previous June 2023 vote, this direct final rule amends the mandatory GDO rule at 16 CFR part 1211 to include the revisions to the entrapment protection requirements for automatic residential GDOs in UL 325, Seventh Edition.

IV. Direct Final Rule Process

The Commission is issuing this rule as a direct final rule. Although the Administrative Procedure Act (APA; 5 U.S.C. 551-559) generally requires agencies to provide notice of a rule and an opportunity for interested parties to comment on it, section 553 of the APA provides an exception when the agency “for good cause finds” that notice and comment are “impracticable, unnecessary, or contrary to the public interest.” Id. 553(b)(B).

The Commission concludes that notice and comment are not necessary in the case of this direct final rule because the Commission is taking the limited action of amending the GDO rule to conform the regulation to the relevant changes made to UL 325 that were previously accepted by the Commission in June 2023 under the Improvement Act. Because this document merely updates the GDO rule to reflect the Commission-approved changes, the Commission considers this rulemaking to be a non-controversial matter that is not likely to generate comments. Public comment will not impact the Commission's acceptance of the substantive changes to UL 325 under the Improvement Act that has previously occurred. Additionally, public comments would not alter substantive changes to the standard or the effect of the revised standard as a consumer product safety standard under section 203(a) of the Improvement Act. Under these circumstances, notice and comment are unnecessary. Therefore, the Commission concludes that the direct final rule process is appropriate.

In Recommendation 95-4, the Administrative Conference of the United States (ACUS) endorses direct final rulemaking as an appropriate procedure to expedite rules that are noncontroversial and not expected to generate significant adverse comments. See 60 FR 43108 (Aug. 18, 1995). ACUS recommends that agencies use the direct final rule process when they act under the “unnecessary” prong of the good cause exemption in 5 U.S.C. 553(b)(B). Consistent with the ACUS recommendation, the Commission is publishing this rule as a direct final rule, because CPSC does not expect any significant adverse comments.

Unless CPSC receives a significant adverse comment within 30 days of this notification, the rule will become effective on May 13, 2024. In accordance with ACUS's recommendation, the Commission considers a significant adverse comment to be “one where the commenter explains why the rule would be inappropriate,” including an assertion challenging “the rule's underlying premise or approach,” or a claim that the rule “would be ineffective or unacceptable without a change.” 60 FR 43108, 43111 (Aug. 18, 1995). As noted, this rule merely updates the existing provisions of the CFR to reflect changes that occur by statute, and public comments should address this specific action. If the Commission receives a significant adverse comment, the Commission will withdraw this direct final rule. Depending on the comment and other circumstances, the Commission may then incorporate the adverse comment into a subsequent direct final rule or publish a notice of proposed rulemaking, providing an opportunity for public comment.

V. Effective Date

Because the changes to the entrapment protection requirements of the UL 325 standard are not substantial and the industry has had more than a year since publication of the UL 325 voluntary standard to come into compliance with its entrapment protection revisions, 60 days is sufficient for the effective date. Therefore, the effective date of the direct final rule is May 13, 2024.

VI. Regulatory Flexibility Act

The Regulatory Flexibility Act (RFA; 5 U.S.C. 601-612) generally requires agencies to review proposed and final rules for their potential economic impact on small entities, including small businesses, and prepare regulatory flexibility analyses. 5 U.S.C. 603, 604. The RFA applies to any rule that is subject to notice and comment procedures under section 553 of the APA. Id. As discussed in section IV. of this preamble, the Commission has determined that notice and the opportunity to comment are unnecessary for this rule. Therefore, the RFA does not apply. CPSC also notes the limited nature of this document, which merely updates the GDO rule to conform the regulation to the applicable changes made to UL 325 that were previously accepted by the Commission in June 2023 under the Improvement Act.

VII. Preemption

Section 203(f) of the Improvement Act contains a preemption provision providing that those provisions of laws of States or political subdivisions which relate to the labeling of automatic residential garage door openers and those provisions which do not provide at least the equivalent degree of protection from the risk of injury associated with automatic residential garage door openers as the consumer product safety rule are subject to preemption under 15 U.S.C. 2075. 15 U.S.C. 2056 Note.

VIII. Environmental Considerations

Commission rules are categorically excluded from any requirement to prepare an environmental assessment or an environmental impact statement where they “have little or no potential for affecting the human environment.” 16 CFR 1021.5(c). This rule falls within the categorical exclusion, so no environmental assessment or environmental impact statement is required.

IX. Congressional Review Act

The Congressional Review Act (CRA; 5 U.S.C. 801-808) states that before a rule may take effect, the agency issuing the rule must submit the rule, and certain related information, to each House of Congress and the Comptroller General. 5 U.S.C. 801(a)(1). The CRA submission must indicate whether the rule is a “major rule.” The CRA states that the Office of Information and Regulatory Affairs determines whether a rule qualifies as a “major rule.” 5 U.S.C. 804(2). Pursuant to the CRA, OMB's Office of Information and Regulatory Affairs has determined that this rule does not qualify as a “major rule,” as defined in 5 U.S.C. 804(2). To comply with the CRA, CPSC will submit the required information to each House of Congress and the Comptroller General.

List of Subjects in 16 CFR Part 1211

Consumer protection, Imports, Labeling, Reporting and recordkeeping requirements.

For the reasons set forth in the preamble, the Commission amends 16 CFR part 1211 as follows:

PART 1211—SAFETY STANDARDS FOR AUTOMATIC RESIDENTIAL GARAGE DOOR OPERATORS

1. The authority citation for part 1211 is revised to read as follows:

Authority: 15 U.S.C. 2056 Note; 15 U.S.C. 2063 and 2065.

Subpart A—[Amended]

2. Amend § 1211.11 by revising paragraphs (b) and (d)(2) to read as follows:

§ 1211.11 Requirements for photoelectric sensors.

* * * * *

(b) Normal operation test—Horizontally moving door. When installed as described in § 1211.10(a)(1) through (4), a photoelectric sensor of a horizontally moving door shall be tested per paragraph (c) of this section that is to be placed on a level surface within the path of the moving door. The sensor is to be tested with the obstruction at a total of five different locations over the height of the door. The locations shall include distances 1 in (25.4 mm) from each end, 1 ft (305 mm) from each end, and the midpoint.

* * * * *

(d) * * *

(2) The moving object is to consist of a 1⅞ inch (47.6 mm) diameter cylindrical rod, 34½ inches (876 mm) long, with the axis point being 34 inches (864 mm) from the end. The axis point is to be fixed at a point centered directly above the beam of the photoelectric sensor 36 inches (914 mm) above the level surface below the door. The rod is to be swung as a pendulum through the photoelectric sensor's beam from a position 45 degrees from the plane of the door when in the closed position. See figure 4 to this subpart.

* * * * *

3. Amend § 1211.12 by revising paragraphs (a)(4)(i) introductory text, (a)(4)(i)(B), and (b) to read as follows:

§ 1211.12 Requirements for edge sensors.

(a) * * *

(4)(i) An edge sensor, when installed on a representative door, shall actuate upon the application of a 15 lbf (66.7 N) or less force in the direction of the application when tested at room temperature 25 °C ± 2 °C (77 °F ± 3.6 °F) and, additionally, when intended for use exposed to outdoor temperature, shall actuate at 40 lbf (177.9 N) or less force when tested at −35 °C ± 2 °C (−31 °F ± 3.6 °F).

* * * * *

(B) For an edge sensor intended to be used on a one-piece door, or swinging door, the force is to be applied so that the axis is at an angle 30 degrees from the direction perpendicular to the plane of the door. See figures 6C and 6D to this subpart.

* * * * *

(b) Endurance test. An edge sensor system and associated components shall withstand 30,000 cycles of mechanical operation without failure. For this test, the edge sensor is to be cycled by the repetitive application of the force as described in paragraph (a)(4)(i) of this section except with a 15lbf (66.7 N) or greater, and at room temperature only. The force is to be applied to the same location for the entire test. All intended uses are to be tested. For an edge sensor system employing integral electric contact strips, this test shall be conducted with the contacts connected to a load no less severe than it controls in the operator. For the last 50 cycles of operation, the sensor shall function as intended when connected to an operator. After the 30,000 cycle test the normal operation test shall be repeated.

* * * * *

Alberta E. Mills,
Secretary, U.S. Consumer Product Safety Commission.

[FR Doc. 2024-05281 Filed 3-13-24; 8:45 am]

BILLING CODE 6355-01-P